DEPARTMENT OF COMMERCE

International Trade Administration

Environmental Technologies Trade Advisory Committee (ETTAC)

AGENCY: International Trade Administration, U.S. Department of Commerce.

ACTION: Notice of open meeting.

Date: May 9, 2002.

Time: 9:00 a.m. to 11:30 p.m.

Place: U.S. Department of Commerce, 14th Street and Constitution Avenue, NW, Washington, DC 20230, Room 3407.

SUMMARY: The Environmental Technologies Trade Advisory Committee will hold a plenary meeting on May 9, 2002, at the U.S. Department of Commerce.

ETTAC will hear briefings on trade and finance issues and discuss subcommittee work plans. The meeting is open to the public.

ETTAC is mandated by Public Law 103-392. It was created to advise the U.S. government on environmental trade policies and programs, and to help it to focus its resources on increasing the exports of the U.S. environmental industry. The ETTAC operates as an advisory committee to the Secretary of Commerce and the interagency Environmental Trade Working Group (ETWG) of the Trade Promotion Coordinating Committee (TPCC). The ETTAC was originally chartered in May of 1994. It was most recently rechartered until May 30, 2002.

For further information phone Corey Wright, ETI, International Trade Administration, U.S. Department of Commerce at (202) 482-5225. This meeting is physically accessible to people with disabilities. Requests for sign language interpretation or other auxiliary aids should be directed to ETI.

Dated: March 28, 2002.
Carlos F. Montoulieu,
Director, Office of Environmental Technologies Industries.

[FR Doc. 02-8446 Filed 4-5-02; 8:45 am]

BILLING CODE 3510-DR-P